DEPARTMENT OF ENERGY

Federal Energy Regulatory Commission

[Docket Nos. CP15-17-000; PF14-1-000]

Sabal Trail Transmission, LLC; Notice of Application

Take notice that on November 21, 2014, Sabal Trail Transmission, LLC (Sabal Trail), 5400 Westheimer Court, Houston, TX 77056, filed an application under section 7(c) of the Natural Gas Act, requesting authorization to construct, own, and operate a new 500-mile natural gas pipeline system (Sabal Trail Project), including 209,900 horsepower at five compressor stations, metering and regulating stations, and appurtenant facilities in Alabama, Georgia, and Florida. Sabal Trail also requests a certificate of public convenience and necessity to acquire by lease from Transcontinental Gas Pipe Line Company, LLC (Transco) the incremental firm capacity that will be created by Transco's proposed Hillabee Expansion Project (Docket No. CP15-16-000). Sabal Trail also requests a blanket certificate pursuant to Part 157, Subpart F of the Commission's regulations, authorizing Sabal Trail to construct, operate, acquire and abandon certain facilities as described in Part 157, Subpart F, and a blanket certificate pursuant to Part 284, Subpart G of the Commission's regulations, authorizing Sabal Trail to provide open-access firm and interruptible interstate natural gas transportation services on a self-implementing basis with pre-granted abandonment for such services, all as more fully set forth in the application which is on file with the Commission and open for public inspection. The filing may also be viewed on the web at http://www.ferc.gov using the “eLibrary” link. Enter the docket number excluding the last three digits in the docket number field to access the document. For assistance, please contact FERC at FERCOnlineSupport@ferc.gov or toll free at (866) 208-3676, or TTY, (202) 502-8659.

Any questions regarding the proposed project should be directed to Lisa A. Connally, General Manager, Rates and Certificates, Sabal Trail Transmission, LLC, P.O. Box 1642, Houston, Texas 77251-1642, or by calling (713) 627-4102 (telephone) or email at laconnolly@spectraenergy.com.

On October 16, 2013, the Commission staff granted Sabal Trail's request to utilize the National Environmental Policy Act (NEPA) Pre-Filing Process and assigned Docket No. PF14-1-000 to staff activities involving the project. Now, as of the filing of this application on November 21, 2014, the NEPA Pre-Filing Process for this project has ended. From this time forward, this proceeding will be conducted in Docket No. CP15-17-000, as noted in the caption of this Notice.

Because the environmental review of the Sabal Trail Project must also include both the Hillabee Expansion Project and Florida Southeast Connection LLC's FSC Project (Docket No. CP14-554-000), preparation of the Environmental Impact Statement (EIS) to comply with the NEPA of 1969 will combine all three applications. Within 90 days after the issuance of this Notice of Application, concurrent with the Notice of Application in CP15-16-000, the Commission staff will issue a Notice of Schedule for Environmental Review that will indicate the anticipated date for the Commission's staff issuance of the final EIS analyzing all three proposals. The issuance of a Notice of Schedule for Environmental Review will also serve to notify federal and state agencies of the timing for the completion of all necessary reviews, and the subsequent need to complete all federal authorizations within 90 days of the date of issuance of the Commission staff's final EIS.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE., Washington, DC 20426.

Comment Date: December 24, 2014.

Dated: December 3, 2014.
Kimberly D. Bose,
Secretary.

[FR Doc. 2014-29049 Filed 12-10-14; 8:45 am]

BILLING CODE 6717-01-P